DEPARTMENT OF HOUSING AND URBAN DEVELOPMENT

[Docket No. FR-4736-14]

Notice of Proposed Information Collection for Public Comment—Screening and Eviction for Drug Abuse and Other Criminal Activity

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments Due Date: November 12, 2002.

ADDRESSES: Interested persons are invited to submit comments regarding this proposal. Comments should refer to the proposal by name and/or OMB Control number and should be sent to: Mildred M. Hamman, Reports Liaison Officer, Public and Indian Housing, Department of Housing and Urban Development, 451 7th Street, SW., Room 4249, Washington, DC 20410-5000.

FOR FURTHER INFORMATION CONTACT: Mildred M. Hamman, (202) 708-0614, extension 4128. (This is not a toll-free number).

SUPPLEMENTARY INFORMATION: The Department will submit the proposed information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information:

Title of Proposal: Screening and Eviction for Drug Abuse and other Criminal Activity—Final Rule.

OMB Control Number: 2577-0232.

Description of the need for the information and proposed use: This collection of information implements statute. This collection of information implements statute. The statute gives Public Housing Agencies (PHAs) the tools for adopting and implementing fair, effective, and comprehensive policies for denying screening out applicants who engage in illegal drug use or other criminal activity and for evicting or terminating assistance of persons who engage in such activity. A PHA that administers a Section 8 or public housing program under an Annual Contributions Contract (ACC) with HUD may request criminal conviction records from any law enforcement agency concerning an adult member of a household applying for admission to a public housing or Section 8 program.

Agency form numbers, if applicable: None.

Members of affected public: State and Local Governments (Public Housing Agencies).

Estimation of the total number of hours needed to prepare the information collection including number of respondents, frequency of response, and hours of response: 4,500 PHAs (respondents), once at admission; per request (nine applicable 24 CFR sections) one hour per response, for a total reporting burden of 53,600 hours. The current total burden hours for this information collection are 217,850. Inadvertently an error was made in calculating the total burden. The correct annual reporting burden should have been 96,350 hours.

Status of the proposed information collection: Extension, without change.

Authority: Section 3506 of the Paperwork Reduction Act of 1995, 44 U.S.C. Chapter 35, as amended.

Michael Liu,
Assistant Secretary for Public and Indian Housing.

[FR Doc. 02-23276 Filed 9-12-02; 8:45 am]

BILLING CODE 4210-33-M